DEPARTMENT OF COMMERCE

International Trade Administration

[C-357-821 and C-560-831]

Biodiesel From Argentina and Indonesia: Postponement of Preliminary Determinations of Countervailing Duty Investigations

AGENCY: Enforcement and Compliance, International Trade Administration, Department of Commerce.

DATES: Effective June 5, 2017.

FOR FURTHER INFORMATION CONTACT: Elfi Blum (Argentina) at (202) 482-0197, or Joseph Traw (Indonesia) at (202) 482-6079, AD/CVD Operations, Enforcement and Compliance, International Trade Administration, U.S. Department of Commerce, 1401 Constitution Avenue NW., Washington, DC 20230.

SUPPLEMENTARY INFORMATION:

Background

On April 12, 2017, the Department of Commerce (Department) initiated countervailing duty investigations (CVD) on biodiesel from Argentina and Indonesia.¹ Currently, the preliminary determinations of these investigations are due no later than June 16, 2017.

¹ See Biodiesel from Argentina and Indonesia: Initiation of Countervailing Duty Investigation, 82 FR 18423 (April 19, 2017).

Postponement of Preliminary Determination

Section 703(b)(1) of the Tariff Act of 1930, as amended (the Act), requires the Department to issue the preliminary determination in a CVD investigation within 65 days after the date on which the Department initiated the investigation. However, section 703(c)(1)(A) of the Act and 19 CFR 351.205(e) allow the Department to postpone the preliminary determination at the request of the petitioner.

On May 22, 2017, the petitioner ² submitted a timely request pursuant to section 703(c)(1)(A) of the Act and 19 CFR 351.205(e) to postpone the preliminary determinations.³ For the reasons stated above and because there are no compelling reasons to deny the request, the Department, in accordance with section 703(c)(1)(A) of the Act, is postponing the deadline for the preliminary determinations to no later than 130 days after the day on which the investigations were initiated. Accordingly, the Department will issue the preliminary determinations no later than August 20, 2017. However, because August 20, 2017 falls on a Sunday, the preliminary determinations are now due no later than August 21, 2017.⁴ In accordance with section 705(a)(1) of the Act and 19 CFR 351.210(b)(1), the deadline for the final determinations of these investigations will continue to be 75 days after the date of the preliminary determinations, unless postponed at a later date.

² The National Biodiesel Board Fair Trade Coalition and its individual members.

³ See letter from the petitioner entitled “Biodiesel from Argentina and Indonesia: Request For Postponement Of The Preliminary Determinations,” dated May 22, 2017.

⁴ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 26, 2017.
Ronald K. Lorentzen,
Acting Assistant Secretary for Enforcement and Compliance.

[FR Doc. 2017-11435 Filed 6-2-17; 8:45 am]

BILLING CODE 3510-DS-P